DEPARTMENT OF AGRICULTURE

Natural Resources Conservation Service

Neshaminy Creek Watershed, Bucks and Montgomery Counties, PA

AGENCY: Natural Resources Conservation Service, USDA.

ACTION: Notice of a Finding of No Significant Impact.

SUMMARY: Pursuant to Section 102(2)(C) of the National Environmental Policy Act of 1969; the Council on Environmental Quality Regulations (40 CFR part 1500); and the Natural Resources Conservation Service (formerly the Soil Conservation Service) Guidelines (7 CFR part 650); the Natural Resources Conservation Service, U.S. Department of Agriculture, gives notice that an environmental impact statement is not being prepared for the Neshaminy Creek Watershed, Bucks and Montgomery Counties, Pennsylvania.

FOR FURTHER INFORMATION CONTACT: Ms. Robin E. Heard, State Conservationist, USDA-Natural Resources Conservation Service, One Credit Union Place, Suite 340, Harrisburg, Pennsylvania 17110-2993, telephone (717) 237-2200; fax (717) 237-2239.

SUPPLEMENTARY INFORMATION: The environmental assessment of this federally assisted action indicates that the project will not cause significant local, regional, or national impacts on the environment. As a result of these findings, Robin E. Heard, State Conservationist, has determined that the preparation and review of an environmental impact statement are not needed for this project.

The project purpose is to reduce flood damages along the lower Neshaminy Creek. The planned works of improvement will be a change from the works of improvement planned in the previously approved Work Plan for Neshaminy Creek Watershed. The previously planned floodwater retarding structure will be replaced with the following works of improvement: flood warning system; voluntary program to acquire or move residential and commercial buildings (including the establishment of riparian buffers); voluntary elevation and/or flood proofing of residential and commercial buildings; continuation and enhancement of floodplain ordinances, the flood insurance program and storm water management.

The Notice of a Finding of No Significant Impact (FONSI) has been forwarded to the Environmental Protection Agency and other interested parties. A limited number of copies of the FONSI are available to fill single copy requests at the above address. Basic data developed during the environmental assessment are on file and may be reviewed by contacting Robin E. Heard.

No administrative action on implementation of the proposal will be taken until 30 days after the date of this publication in the Federal Register.

(This activity is listed in the Catalog of Federal Domestic Assistance under NO. 10.904 “ Watershed Protection and Flood Prevention “ and is subject to the provisions of Executive Order 12372, which requires intergovernmental consultation with State and local officials.)

Dated: October 16, 2001.
Robin E. Heard,
State Conservationist.

[FR Doc. 01-26695 Filed 10-22-01; 8:45 am]

BILLING CODE 3410-16-P